DEPARTMENT OF COMMERCE

National Oceanic and Atmospheric Administration

RIN 0648-XC402

Nominations for the Western and Central Pacific Fisheries Commission Advisory Committee

AGENCY: National Marine Fisheries Service (NMFS), National Oceanic and Atmospheric Administration (NOAA), Commerce.

ACTION: Request for nominations.

SUMMARY: NMFS, on behalf of the Secretary of Commerce, is seeking nominations for the advisory committee established under the Western and Central Pacific Fisheries Convention Implementation Act (Act). The advisory committee, to be composed of individuals from groups concerned with the fisheries covered by the Western and Central Pacific Fisheries Convention (Convention), will be given the opportunity to provide input to the United States Commissioners to the Western and Central Pacific Fisheries Commission (Commission) regarding the deliberations and decisions of the Commission.

DATES: Nominations must be received no later than February 25, 2013.

ADDRESSES: Nominations should be directed to Michael Tosatto, Acting Regional Administrator, NMFS Pacific Islands Regional Office, and may be submitted by any of the following means:

• Email: pir.wcpfc@noaa.gov. Include in the subject line the following document identifier: “Advisory committee nominations”. Email comments, with or without attachments, are limited to 5 megabytes.

• Mail or hand delivery: 1601 Kapiolani Blvd. Suite 1110, Honolulu, HI 96814.

• Facsimile: 808-973-2941.

FOR FURTHER INFORMATION CONTACT: Oriana Villar, NMFS Pacific Islands Regional Office; telephone: 808-944-2256; facsimile: 808-973-2941; email: Oriana.Villar@noaa.gov.

SUPPLEMENTARY INFORMATION:

The Convention and the Commission

The objective of the Convention is to ensure, through effective management, the long-term conservation and sustainable use of highly migratory fish stocks in the western and central Pacific Ocean in accordance with the United Nations Convention on the Law of the Sea of 10 December 1982 (UNCLOS) and the Agreement for the Implementation of the Provisions of the UNCLOS Relating to the Conservation and Management of Straddling Fish Stocks and Highly Migratory Fish Stocks. The Convention establishes the Commission, the secretariat of which is based in Pohnpei, Federated States of Micronesia.

The Convention applies to all highly migratory fish stocks (defined as all fish stocks of the species listed in Annex I of the UNCLOS occurring in the Convention Area, and such other species of fish as the Commission may determine), except sauries.

The United States actively supported the negotiations and the development of the Convention and signed the Convention in 2000. It participated as a cooperating non-member of the Commission since 2005 and became a Contracting Party to the Convention and a full member of the Commission when it ratified the Convention in January 2007. Under the Act, the United States will be represented on the Commission by five Commissioners.

Advisory Committee

The Act (16 U.S.C. 6902) provides (in section 6902(d)) that the Secretary of Commerce, in consultation with the United States Commissioners to the Commission, will appoint certain members of the advisory committee established under the Act.

The members to be appointed to the advisory committee are to include not less than 15 nor more than 20 individuals selected from the various groups concerned with the fisheries covered by the Convention, providing, to the extent practicable, an equitable balance among such groups. On behalf of the Secretary of Commerce, NMFS is now seeking nominations for these appointments.

In addition to the 15-20 appointed members, the advisory committee also includes the chair of the Western Pacific Fishery Management Council's Advisory Committee (or designee), and officials of the fisheries management authorities of American Samoa, Guam, and the Northern Mariana Islands (or their designees).

Members of the advisory committee will be invited to attend all non-executive meetings of the United States Commissioners to the Commission and at such meetings will be given opportunity to examine and be heard on all proposed programs of investigation, reports, recommendations, and regulations of the Commission.

Each appointed member of the advisory committee will serve for a term of two years and is eligible for reappointment. This request for nominations is for the term to begin on or after August 2, 2013 and is for a term of two consecutive years.

The Secretaries of Commerce and State will furnish the advisory committee with relevant information concerning fisheries and international fishery agreements.

NMFS, on behalf of the Secretary of Commerce, will provide to the advisory committee administrative and technical support services as are necessary for its effective functioning.

Appointed members of the advisory committee will serve without pay, but while away from their homes or regular places of business in the performance of services for the advisory committee will be allowed travel expenses, including per diem in lieu of subsistence, in the same manner as persons employed intermittently in the Government service are allowed expenses under section 5703 of title 5, United States Code. They will not be considered Federal employees while performing service as members of the advisory committee except for the purposes of injury compensation or tort claims liability as provided in chapter 81 of title 5, United States Code and Chapter 171 of title 28, United States Code.

Procedure for Submitting Nominations

Nominations for the advisory committee should be submitted to NMFS (see ADDRESSES). This request for nominations is for first time nominees as well as current Advisory Committee members. Self nominations are acceptable. Nominations should include the following information: (1) Full name, address, telephone, facsimile, and email of nominee; (2) nominee's organization(s) or professional affiliation(s) serving as the basis for the nomination, if any; and (3) a background statement, not to exceed one page in length, describing the nominee's qualifications, experience and interests, specifically as related to the fisheries covered by the Convention.

Authority: 16 U.S.C. 6902.

Dated: January 4, 2013.
Lindsay Fullenkamp,
Acting Deputy Director, Office of Sustainable Fisheries, National Marine Fisheries Service.

[FR Doc. 2013-00271 Filed 1-8-13; 8:45 am]

BILLING CODE 3510-22-P